DEPARTMENT OF HEALTH AND HUMAN SERVICES

National Institutes of Health

National Institute of Neurological Disorders and Stroke; Amended Notice of Meeting

Notice is hereby given of a change in the meeting of the Neurological Sciences and Disorders C, February 28, 2007, 8 a.m. to March 1, 2007, 5 p.m. St. Gregory Hotel, 2033 M Street, NW., Washington, DC 20036 which was published in the Federal Register on January 31, 2007, 72 FR 4523.

The meeting scheduled for February 28-March 1, 2007 has been changed to March 1-2, 2007; 8 a.m. to 5 p.m. The meeting is closed to the public.

Dated: February 6, 2007.
Anna Snouffer,
Acting Director, Office of Federal Advisory Committee Policy.

[FR Doc. 07-650 Filed 2-13-07; 8:45 am]

BILLING CODE 4140-07-M